DEPARTMENT OF EDUCATION

[CFDA No. 84.356A]

Office of Elementary and Secondary Education—Alaska Native Education Program

AGENCY: Department of Education.

ACTION: Notice inviting applications for new awards for fiscal year (FY) 2003.

Purpose of Program: To develop and support supplemental educational programs to benefit Alaska Natives.

Permissible Activities: Activities carried out through projects that meet the purposes of this program may include the following: (1) The development and implementation of plans, methods, and strategies to improve the education of Alaska Natives; (2) the development of curricula and educational programs that address the educational needs of Alaska Native students; (3) professional development activities for educators; (4) the development and operation of home instruction programs for Alaska Native preschool children, to ensure the active involvement of parents in their children's education from the earliest ages; (5) family literacy services; (6) the development and operation of student enrichment programs in science and mathematics; (7) research and data collection activities to determine the educational status and needs of Alaska Native children and adults; (8) other research and evaluation activities related to programs carried out under the Alaska Native Education Programs; (9) remedial and enrichment programs to assist Alaska Native students in performing at a high level on standardized tests; (10) education and training of Alaska Native students enrolled in a degree program that will lead to certification or licensing as teachers; (11) parenting education for parents and caregivers of Alaska Native children to improve parenting and caregiving skills (including skills relating to discipline and cognitive development), including parenting education provided through in-home visitation of new mothers; (12) activities carried out through Even Start programs under subpart 3 of part B of title I of the Elementary and Secondary Education Act of 1965, as amended, and Head Start programs under the Head Start Act, including the training of teachers for the Even Start and Head Start programs; (13) other early learning and preschool programs; (14) dropout prevention programs; (15) career preparation activities to enable Alaska Native children and adults to prepare for meaningful employment, including programs providing “tech-prep,” mentoring, training, and apprenticeship activities; (16) provision of operational support and purchasing of equipment to develop regional vocational schools in rural areas of Alaska, including boarding schools for Alaska Native students in grades 9 through 12, or at higher levels of education, to provide the students with necessary resources to prepare for skilled employment opportunities; (17) construction; and (18) other activities, to meet the educational needs of Alaska Native children and adults.

Eligible Applicants: Alaska Native organizations; educational entities with experience in developing or operating Alaska Native programs or programs of instruction conducted in Alaska Native languages; cultural and community-based organizations with experience in developing or operating programs to benefit Alaska Natives; and consortia of organizations and entities described in this paragraph to carry out programs that meet the purposes of this program. A State educational agency or local educational agency may apply for an award under this program only as part of a consortium involving an Alaska Native organization. The consortium may include other eligible applicants.

Applications Available: July 7, 2003.

Deadline for Transmittal of Applications: August 6, 2003.

Deadline for Intergovernmental Review: September 5, 2003.

Estimated Available Funds: $14 million.

Estimated Range of Awards: $400,000-$600,000.

Estimated Number of Awards: 28.

Note: These estimates are projections for the guidance of potential applicants. The Department is not bound by any estimates in this notice.

Project Period: Up to 36 months.

Applicable Regulations and Statute: The Education Department General Administrative Regulations (EDGAR) in 34 CFR parts 74, 75, 77, 79, 80, 81, 82, 86, 97, 98, and 99. Title VII, Part C of the Elementary and Secondary Education Act of 1965, as amended by the No Child Left Behind Act of 2001, 20 U.S.C. 7541-7546. Consolidated Appropriations Resolution, 2003, Public Law No. 108-7, 117 Stat. 327.

Selection Criteria: The Secretary will use the following selection criteria in 34 CFR 75.210 to evaluate applications under this competition (the specific selection criteria and factors that will be used in evaluating applications are detailed in the application package). The maximum score for all of the selection criteria is 100 points. The maximum points for each criterion is as follows:

(a) Need for Project—5 points.

(b) Significance—5 points.

(c) Quality of Project Design—25 points.

(d) Adequacy of Project Services—20 points.

(e) Quality of Project Personnel—15 points.

(f) Adequacy of Resources—5 points.

(g) Quality of Management Plan—10 points.

(h) Quality of Project Evaluation—15 points.

Priority Points: In accordance with 34 CFR 75.105(b)(iv) and statutory requirements, the Secretary will award 5 bonus points to applications from Alaska Native regional nonprofit organizations, or from consortia that include at least one Alaska Native regional nonprofit organization. The bonus points are in addition to any points the applicant earns under the selection criteria listed above.

For Applications and Information Contact: Mrs. Lynn Thomas, (202) 260-1541, U.S. Department of Education, 400 Maryland Avenue, SW., FOB6, Room 3C126, Mail Stop 6140, Washington, DC 20202. The e-mail address for Mrs. Thomas is: Lynn.thomas@ed.gov.

Individuals who use a telecommunications device for the deaf (TDD) may call the Federal Information Relay Service (FIRS) at 1-800-877-8339.

Individuals with disabilities may obtain this document in an alternative format (e.g., Braille, large print, audiotape, or computer diskette) on request to the contact person listed above.

Individuals with disabilities may also obtain a copy of the application package in an alternative format on request to the contact person listed above. However, the Department is not able to reproduce in an alternative format the standard forms included in the application package.

Electronic Access to This Document: You may view this document, as well as other Department of Education documents published in the Federal Register, in text or Adobe Portable Document Format (PDF) on the Internet at the following site: www.ed.gov/legislation/FedRegister.

To use PDF, you must have Adobe Acrobat Reader, which is available free at this site. If you have questions about using PDF, call the U.S. Government Printing Office (GPO), toll free, at 1-888-293-6498, or in the Washington, DC area at (202) 512-1530.

Note: The official version of this document is the document published in the Federal Register. Free Internet access to the official edition of the Federal Register and the Code of Federal Regulations are available on GPO Access at: http://www.access.gpo.gov/nara/index.html.

Program Authority: 20 U.S.C. 7541-7546.

Dated: June 30, 2003.
Eugene W. Hickok,
Under Secretary of Education.

[FR Doc. 03-16999 Filed 7-3-03; 8:45 am]

BILLING CODE 4000-01-U